DEPARTMENT OF THE INTERIOR

Bureau of Land Management

[LLNVC0100000 L91310000.EJ0000.LXSIGEOT0000 241A; MO#4500018986; NVN 087795; 11-08807; TAS:14X5575]

Notice of Availability of the Draft Environmental Impact Statement for the Salt Wells Energy Projects, Churchill County, NV

AGENCY: Bureau of Land Management, Interior.

ACTION: Notice of Availability.

SUMMARY: In accordance with of the National Environmental Policy Act of 1969, as amended (NEPA), the Bureau of Land Management (BLM) has prepared a Draft Environmental Impact Statement (EIS) for the Salt Wells Energy Projects and by this notice is announcing the opening of the comment period.

DATES: To ensure comments will be considered, the BLM must receive written comments on the Salt Wells Energy Projects Draft EIS within 60 days following the date the Environmental Protection Agency publishes its Notice of Availability in the Federal Register. The BLM will announce future meetings or hearings and any other public involvement activities at least 15 days in advance through public notices, media releases, and/or mailings.

ADDRESSES: You may submit comments related to the Salt Wells Energy Projects by any of the following methods:

• Web site: http://www.blm.gov/nv/st/en/fo/carson_city_field.html.

• E-mail: saltwells_eis@blm.gov.

• Fax: 775-885-6147.

• Mail or other delivery service: BLM Carson City District, Stillwater Field Office, Attn: Salt Wells Energy Projects, 5665 Morgan Mill Road, Carson City, Nevada 89701.

Copies of the Salt Wells Energy Projects Draft EIS are available in the BLM Carson City District, Stillwater Field Office at the above address.

FOR FURTHER INFORMATION CONTACT: Colleen Sievers, (775) 885-6000, or e-mail: saltwells_eis@blm.gov.

SUPPLEMENTARY INFORMATION: The BLM Stillwater Field Office received separate proposed geothermal utilization plans and applications for facilities construction permits from Vulcan Power Company (Vulcan) and Ormat Technologies, Inc. (Ormat), and an electric transmission right-of-way (ROW) application from Sierra Pacific Power Company (SPPC), for proposed geothermal energy projects covering a combined area of approximately 24,152 acres in the Salt Wells area about 15 miles east of Fallon, Nevada. Vulcan proposes the development of as many as four geothermal power plants and associated facilities. Ormat proposes the development of one geothermal power plant and associated facilities. SPPC proposes 22 miles of above-ground electrical transmission lines, electrical substations, and switching stations. Due to similar timing, geographic area, and type of action, the BLM is analyzing the proposals in one EIS. The BLM will issue a separate Record of Decision for each proposed project.

The proposed facilities would be sited on a combination of private property and public land; the public land is managed by the BLM and the U.S. Bureau of Reclamation (Reclamation).

The Vulcan project proposal is to construct as many as four 30- to 60-megawatt (MW) binary or dual-flash geothermal power plants and associated facilities at five possible locations for a total net output of 120 MW. Each site includes production and injection wells, pipelines, a substation, interconnection lines to the proposed substation, and access roads. The Vulcan project could require an estimated 46 geothermal production and injection wells. Twenty of these wells have been analyzed in two previous environmental assessments (EA): Salt Wells Geothermal Drilling EA for Ten Drilling Wells, EA-NV-030-07-05 (February 6, 2007), and Salt Wells Geothermal Exploratory Drilling Program EA for Ten Wells, DOI- BLM-NV-C010-2009-0006-EA (April 24, 2009).

The Ormat project proposal includes the construction and operation of a 40-MW binary combination wet- and air-cooled geothermal power plant, a substation, a switching station, and an associated transmission line between the power plant and switching station. These facilities would be developed on an 80-acre private parcel. While Ormat has not yet determined the total number of production and injection wells needed, up to 13 well pads would be constructed in addition to the 12 well pads previously analyzed in the Carson Lake Geothermal Exploration Project EA-NV-030-07-006 and DOI-BLM-NV-C010-2010-0012—Determination of NEPA Adequacy, and authorized by the BLM on July 25, 2008, and July 22, 2010, respectively up to five wells might be drilled from each pad location. Associated pipelines and roads would also be permitted and constructed.

The SPPC proposal includes construction of a new substation, 22 miles of single circuit 230-kilovolt (kV) transmission line, two 230-kV switching stations, and two 60-kV electric lines.

The BLM's purpose for this EIS is to direct and control the use of public lands for the orderly development of commercial-scale geothermal power generation facilities, associated infrastructure, and a transmission line in a manner that will protect natural resources and prevent unnecessary or undue degradation to the public lands following the NEPA regulations [40 CFR 2801.2]. In accordance with 43 CFR part 2800 and 43 CFR part 3200, the BLM needs to process the applications to construct, operate, and maintain the proposed Salt Wells Energy Projects. Title V of the Federal Land Policy and Management Act (FLPMA) authorizes the Secretary of the Interior (through the BLM) to grant ROWs over, upon, under, or through public lands for the purposes of generating and transmitting electric energy. These projects are consistent with the BLM Carson City District Office Consolidated Resource Management Plan (2001).

In addition to the proposed actions, the BLM is analyzing the following action alternatives. For the Vulcan project, an alternative switching station and interconnection 230-kV transmission line is proposed should SPCC elect not to build its project. For the Ormat project, the BLM developed an alternative to relocate specific well sites and a portion of a pipeline to maintain consistency with lease stipulations and land use plan decisions to protect riparian vegetation and surface waters within canals. For the SPPC project, two alternative routes for the proposed 230-kV transmission line and an alternative examining the construction of an additional fiber optic line to connect communications from Highway 50 are being considered to minimize impacts to the nearby Fallon Naval Air Station (NAS) airspace. As required under NEPA, the Draft EIS analyzes a no-action alternative for each of the proposed projects.

The BLM took into consideration the provisions of the Energy Policy Act of 2005, and Secretarial Orders 3283, Enhancing Renewable Energy Development on the Public Lands, and 3285A1, Renewable Energy Development by the Department of the Interior, in responding to the applications.

The Draft EIS analyzes site-specific impacts of the proposed projects on land use authorizations, airspace, and access; air quality; minerals/geology and soils; farm lands (prime or unique); water quality and quantity; floodplains, wetlands, and riparian zones; vegetation (including invasive, nonnative species); wildlife; migratory birds; BLM-designated sensitive animal and plant species; cultural resources; Native American religious concerns; paleontological resources; visual resources; livestock grazing; recreation; special designations (including areas of critical environmental concern and wilderness); national scenic and historic trails; noise; public health and safety and fire management; hazardous or solid wastes; social and economic values; and environmental justice. Pursuant to Section 201[a] of FLPMA, the 1979 wilderness characteristic inventory was updated for all lands that could be impacted by the proposed action and alternatives. No changes have occurred that would warrant a change of the 1979 finding that wilderness characteristics were not present in the area. Therefore, wilderness characteristics are not analyzed in the EIS. A Notice of Intent to Prepare an EIS for the Salt Wells Energy Projects, Churchill County, Nevada, was published in the Federal Register on September 11, 2009 (74 FR 46787). The BLM held one public scoping meeting in Fallon, Nevada, on October 21, 2009. The formal scoping period ended November 10, 2009. Several issues were raised during scoping including the proximity to Fallon NAS, the need to monitor potential impacts to ground and surface water, impacts to wildlife habitat and wildlife (migratory birds and golden eagles), and effects of lighting on Dark Sky attributes of the area.

Please note that public comments and information submitted, including names, street addresses, and e-mail addresses of persons who submit comments, will be available for public review and disclosure Bureau of Land Management Carson City District Office, 5665 Morgan Mill Road, Carson City, Nevada during regular business hours (8 a.m. to 4 p.m.), Monday through Friday, except holidays.

Before including your address, phone number, e-mail address, or other personal identifying information in your comment, you should be aware that your entire comment—including your personal identifying information—may be made publicly available at any time. While you can ask us in your comment to withhold your personal identifying information from public review, we cannot guarantee that we will be able to do so.

Teresa J. Knutson,
Manager, Stillwater Field Office, BLM Carson City District.

Authority: 43 CFR part 2800 and 43 CFR part 3200.

[FR Doc. 2011-1831 Filed 1-27-11; 8:45 am]

BILLING CODE 4310-HC-P